ENVIRONMENTAL PROTECTION AGENCY

[EPA-R07-SFUND-2024-0409; FRL-12209-01-R7]

Proposed CERCLA Settlement Agreement for the U.S. Technology Superfund Site, Berger, Franklin County, Missouri

AGENCY: Environmental Protection Agency (EPA).

ACTION: Notice; request for public comment.

SUMMARY: In accordance with section 122(i) of the Comprehensive Environmental Response, Compensation and Liability Act of 1980, as amended (“CERCLA”), notice is hereby given by the U.S. Environmental Protection Agency, Region 7 (“EPA”), of a proposed settlement agreement (“Agreement”) related to the U.S. Technology Superfund Site (“Site”) in Berger, Franklin County, Missouri.

DATES: Comments must be received on or before April 7, 2025.

ADDRESSES: You may send comments by email to Jared Pessetto at pessetto.jared@epa.gov or by mail to Jared Pessetto, U.S. EPA Region 7, Office of Regional Counsel, 11201 Renner Boulevard, Lenexa, Kansas 66219. Comments should reference the U.S. Technology Superfund Site, CERCLA Section 122(h) Settlement Agreement, Docket No. CERCLA-07-2023-0066.

FOR FURTHER INFORMATION CONTACT: A copy of the proposed Agreement may be obtained from Jared Pessetto, Attorney-Adviser, Office of Regional Counsel, U.S. EPA Region 7, 11201 Renner Boulevard, Lenexa, Kansas 66219; telephone number: (913) 551-7793; email address: pessetto.jared@epa.gov.

SUPPLEMENTARY INFORMATION: The EPA conducted a Fund-lead Time-Critical Removal Action at the Site between September 2018 and June 2019 to remove approximately 13 million pounds of “spent blast media” (“SBM”) that U.S. Technology Corporation held for storage in a warehouse located at 7627 Zero Road in Berger, Franklin County, Missouri. The EPA's Removal Action consisted of collecting, characterizing, segregating, and transporting for off-site disposal SBM that contained toxic levels of heavy metals including cadmium, chromium, and lead, each of which is a hazardous substance as defined by CERCLA. To recover its response costs, the EPA negotiated the proposed Agreement with multiple potentially responsible parties (PRPs) that arranged for disposal of SBM at the Site. The EPA will enter the proposed Agreement with AAR Landing Gear, LLC; The Boeing Company; Lockheed Martin Corporation; and Space Gateway Support, LLC (“Settling Parties”); the Department of Defense acting by and through the U.S. Air Force, the U.S. Army, and the U.S. Navy; the United States Coast Guard; and the National Aeronautics and Space Administration (“Settling Federal Agencies”). Under the proposed Agreement the Settling Parties will pay to EPA $407,164, and the Settling Federal Agencies will pay $2,030,586.

For thirty (30) days following the date of publication of this document, the EPA will receive written comments relating to the proposed Agreement. The EPA will consider all comments received and may modify or withdraw its consent to the proposed Agreement if the comments it receives disclose facts or considerations that indicate that the proposed Agreement is inappropriate, improper, or inadequate. The EPA's response to any comments received will be available for public inspection at the EPA Region 7 Office located at 11201 Renner Boulevard, Lenexa, Kansas 66219.

James Macy,
Regional Administrator, U.S. Environmental Protection Agency, Region 7.

[FR Doc. 2025-03603 Filed 3-5-25; 8:45 am]

BILLING CODE 6560-50-P